DEPARTMENT OF ENERGY

Federal Energy Regulatory Commission

Combined Notice of Filings #1

Take notice that the Commission received the following electric corporate filings:

Docket Numbers: EC20-18-000.

Applicants: Pattern Energy Group Inc., on Behalf of its Public Utility S Canada Pension Plan Investment Board.

Description: Application for Authorization Under Section 203 of the Federal Power Act, et al. of Pattern Energy Group Inc., et al.

Filed Date: 11/22/19.

Accession Number: 20191122-5242.

Comments Due: 5 p.m. ET 12/13/19.

Docket Numbers: EC20-19-000.

Applicants: Pattern Energy Group Inc., Riverstone Holdings LLC.

Description: Application for Authorization Under Section 203 of the Federal Power Act, et al. of Pattern Energy Group Inc., et al.

Filed Date: 11/22/19.

Accession Number: 20191122-5251.

Comments Due: 5 p.m. ET 12/13/19.

Take notice that the Commission received the following electric rate filings:

Docket Numbers: ER10-2822-014; ER16-1238-002; ER16-1250-006 ER17-1392-002; ER10-3158-008; ER12-308-008; ER10-3162-008; ER10-3161-008; ER17-1242-001.

Applicants: Atlantic Renewable Projects II LLC, Avangrid Arizona Renewables, LLC, Avangrid Renewables, LLC, El Cabo Wind LLC, Dillon Wind LLC, Manzana Wind LLC, Mountain View Power Partners III, LLC, Shiloh I Wind Project, LLC, Tule Wind LLC.

Description: Supplement to July 1, 2019 Updated Market Power Analysis of the Avangrid Southwest MBR Sellers, et al.

Filed Date: 11/22/19.

Accession Number: 20191122-5228.

Comments Due: 5 p.m. ET 12/13/19.

Docket Numbers: ER19-2505-002.

Applicants: Southern California Edison Company.

Description: Tariff Amendment: SCE's Response to Deficiency Letter—WDAT Energy Storage ER19-2505 to be effective 10/30/2019.

Filed Date: 11/25/19.

Accession Number: 20191125-5079.

Comments Due: 5 p.m. ET 12/16/19.

Docket Numbers: ER19-2727-001.

Applicants: California Independent System Operator Corporation.

Description: Tariff Amendment: 2019-11-22 CCDEBE Deficiency Letter Response to be effective 12/31/2019.

Filed Date: 11/22/19.

Accession Number: 20191122-5215.

Comments Due: 5 p.m. ET 12/13/19.

Docket Numbers: ER19-2747-001.

Applicants: Southwest Power Pool, Inc.

Description: Tariff Amendment: 3593 Frontier Windpower II GIA—Deficiency Response to be effective 8/23/2019.

Filed Date: 11/25/19.

Accession Number: 20191125-5032.

Comments Due: 5 p.m. ET 12/16/19.

Docket Numbers: ER19-2748-001.

Applicants: Southwest Power Pool, Inc.

Description: Tariff Amendment: 3595 Skeleton Creek Wind, LLC GIA—Deficiency Response to be effective 8/23/2019.

Filed Date: 11/25/19.

Accession Number: 20191125-5040.

Comments Due: 5 p.m. ET 12/16/19.

Docket Numbers: ER19-2773-001.

Applicants: Southwest Power Pool, Inc.

Description: Tariff Amendment: 3594 Wheatbelt Wind, LLC GIA—Deficiency Response to be effective 8/23/2019.

Filed Date: 11/25/19.

Accession Number: 20191125-5041.

Comments Due: 5 p.m. ET 12/16/19.

Docket Numbers: ER19-2813-001.

Applicants: Southwest Power Pool, Inc.

Description: Tariff Amendment: 3597 Chilocco Wind Farm GIA—Amended Filing/Deficiency to be effective 9/6/2019.

Filed Date: 11/25/19.

Accession Number: 20191125-5042.

Comments Due: 5 p.m. ET 12/16/19.

Docket Numbers: ER20-453-000.

Applicants: Southwest Power Pool, Inc.

Description: § 205(d) Rate Filing: Revisions to Eliminate Attachment Z2 Revenue Credits to be effective 2/1/2020.

Filed Date: 11/22/19.

Accession Number: 20191122-5173.

Comments Due: 5 p.m. ET 12/13/19.

Docket Numbers: ER20-454-000.

Applicants: Midcontinent Independent System Operator, Inc.

Description: § 205(d) Rate Filing: 2019-11-25_SA 3372 Entergy Louisiana-sPower Development GIA (J697) to be effective 11/8/2019.

Filed Date: 11/25/19.

Accession Number: 20191125-5009.

Comments Due: 5 p.m. ET 12/16/19.

Docket Numbers: ER20-455-000.

Applicants: Midcontinent Independent System Operator, Inc.

Description: § 205(d) Rate Filing: 2019-11-25_SA 3376 ATC-Wisconsin Public Service GIA (J886) to be effective 11/8/2019.

Filed Date: 11/25/19.

Accession Number: 20191125-5011.

Comments Due: 5 p.m. ET 12/16/19.

Docket Numbers: ER20-456-000.

Applicants: Tenaska Frontier Partners, Ltd.

Description: Tariff Cancellation: Notice of Cancellation to be effective 6/1/2019.

Filed Date: 11/25/19.

Accession Number: 20191125-5070.

Comments Due: 5 p.m. ET 12/16/19.

Docket Numbers: ER20-457-000.

Applicants: PJM Interconnection, L.L.C.

Description: Tariff Cancellation: Notice of Cancellation of ISA SA No. 5034; Queue No. AC1-097 to be effective 1/10/2020.

Filed Date: 11/25/19.

Accession Number: 20191125-5072.

Comments Due: 5 p.m. ET 12/16/19.

Docket Numbers: ER20-458-000.

Applicants: Enerwise Global Technologies, Inc.

Description: Request for Limited Tariff Waiver of Enerwise Global Technologies, Inc.

Filed Date: 11/25/19.

Accession Number: 20191125-5084.

Comments Due: 5 p.m. ET 12/16/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 25, 2019.
Nathaniel J. Davis, Sr.,
Deputy Secretary.

[FR Doc. 2019-26077 Filed 12-2-19; 8:45 am]

BILLING CODE 6717-01-P